DEPARTMENT OF THE INTERIOR

National Park Service

National Register of Historic Places; Notification of Pending Nominations and Related Actions

Nominations for the following properties being considered for listing or related actions in the National Register were received by the National Park Service before August 8, 2005. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, 202-371-6447. Written or faxed comments should be submitted by September 15, 2005.

John W. Roberts,
Acting Chief, National Register/National Historic Landmarks Program.

FLORIDA

Hillsborough County

Meacham Elementary School, 1225 India St., Tampa, 05001041

INDIANA

Decatur County

Jerman School, (Indiana's Public Common and High Schools MPS) 316 W. Walnut St., Greensburg, 05001017

Delaware County

Maring, Grace Keiser, Library, 1808 S. Madison St., Muncie, 05001011

Elkhart County

Fort Wayne Street Bridge, Indiana Ave. over Elkhard R. Goshen, 05001018

Hamilton County

Boxley, George, Cabin, Pioneer Hill at First and Main Sts., Sheridan, 05001010

Lake County

Indiana Harbor Public Library, 3605 Grand Ave., East Chicago, 05001014

Kingsbury—Doak Farmhouse, 4411 E 153rd Ave., Hebron, 05001013

Marion County

Speedway Historic District, Roughly bounded by 16th St., Main St. 10th St. and Winton Ave., Speedway, 05001015

Montgomery County

O'Neall, Abijah II, House, 4040 West 300 South, Crawfordsville, 05001016

Morgan County

Blankenship—Hodges—Brown House, 7455 Old IN 67 W, Paragon, 05001012

IOWA

Lee County

Faeth Farmstead and Orchard District, 2469 IA 2, Fort Madison, 05001020

Pottawattamie County

Willow—Bluff—3rd Street Historic District, Roughly bounded by Worth, High School Ave., Clark Ave. and W side Bluff St., Council Bluffs, 05001019

LOUISIANA

St. Mary Parish

Franklin Historic District (Boundary Increase), 600-608 Palfrey St., Franklin, 05001042

MARYLAND

Somerset County

University of Maryland Eastern Shore, 1 Backbone Rd., Princess Anne, 05001021

MINNESOTA

Hennepin County

Phi Gamma Delta Fraternity House, 1129 University Ave. SE, Minneapolis, 05001040

MISSOURI

Buchanan County

Everett School, (St. Joseph, Buchanan County, Missouri MPS AD), 826 S 14th St., Saint Joseph, 05001023

Cape Girardeau County

Esquire Theater, (Cape Girardeau, Missouri MPS) 824 Broadway, Cape Girardeau, 05001025

St. Louis County

Rott School, 9455 Rott Rd., Sunset Hills, 05001022

St. Louis Independent City

Halsey—Packard Building, 2201-11 Locust, St. Louis (Independent City), 05001036

Locust Street Automotive District, (Auto-Related Resources of St. Louis, Missouri MPS) 2914-3124 Locust and 3043 Olive, St. Louis (Independent City), 05001024

Shaughnessy, Martin, Building, 2201-15 Washington, St. Louis (Independent City), 05001035

Tower, George F., Jr. and Carrie, House, 1520 S. Grand Ave., St. Louis (Independent City), 05001034

NEW YORK

Nassau County

Stepping Stones Light Station, (Light Stations of the United States MPS), Long Island Sound, 0.9 mi. NW of Elm Point at town of Kings Point, Kings Point, 05001026

NORTH CAROLINA

Northampton County

Seabord Historic District, Bounded by Main, Church and Washington Sts, and NC 186, Seaboard, 05001032

Person County

Merritt—Winstead House, 7891 Boston Rd., Roxboro, 05001031

Polk County

Ryder Hall, 305 Seminary St., Saluda, 05001033

Robeson County

McKinnon, Kenneth, House, South Side of NC 20, SE corner of NC 20 and NC 1907, St. Pauls, 05001029

Wake County

Johnson, Kemp B., House, 7116 Johnson Pond Rd., Fuquay—Varina, 05001028

Thompson House, 2528 Old NC 98, Wake Forest, 05001030

TENNESSEE

Davidson County

Airdrie, 3210 Avenal Ave., Nashville, 05001027

Knox County

Chilhowee Park Historic District, (Knoxville and Knox County MPS), N. Beaman St., N. Castle St., Jefferson Ave., Mary St., Manor Dr., and Woodbine Ave., Knoxville, 05001039

UTAH

Cache County

Sigma Chi Fraternity House, 705 North 800 East, Logan, 05001038

Salt Lake County

Fuller, W.P., Paint Company Office and Warehouse, 404 West 400 South, Salt Lake City, 05001037

A request for REMOVAL has been made for the following resources:

ARKANSAS

Mississippi County

First Baptist Church 513 S. Pecan St., Osceola, 95001083

Pulaski County

Mosaic Templars of America Headquarters Building, 900 Broadway, Little Rock, 90000634

White County

Searcy City Hall, (White County MPS), Jct. Of Gum and Race Sts., Searcy, 91001227

[FR Doc. 05-17259 Filed 8-30-05; 8:45 am]

BILLING CODE 4312-51-P